DEPARTMENT OF ENERGY

[OE Docket No. EA-280-A]

Application to Export Electric Energy; Direct Energy Marketing Inc.

AGENCY: Office of Electricity Delivery and Energy Reliability, DOE.

ACTION: Notice of application.

SUMMARY: Direct Energy Marketing Inc. (DEMI) has applied to renew its authority to transmit electric energy from the United States to Canada pursuant to section 202(e) of the Federal Power Act.

DATES: Comments, protests or requests to intervene must be submitted on or before December 6, 2005.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On November 5, 2003, the Department of Energy (DOE) issued Order No. EA-280 authorizing DEMI to export electric energy from the United States to Canada for a period of two years. On November 4, 2005, DEMI applied to DOE to renew its export authority for a five-year period. DEMI proposes to export electric energy to Canada and to arrange for the delivery of those exports over the international transmission facilities presently owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Co.

The construction, operation, maintenance, and connection of each of the international transmission facilities to be utilized by DEMI have previously been authorized by a Presidential permit issued pursuant to Executive Order 10485, as amended.

DEMI has requested expedited consideration of this application in order to minimize the disruption of its electricity trade with Canadian entities. In response to this request, DOE has shortened the public comment period to 15 days.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the DEMI application to export electric energy to Canada should be clearly marked with Docket EA-280-A. Additional copies are to be filed directly with James D. Steffes, Vice President, Government Affairs and Regulatory Affairs, Direct Energy, L.P., 12 Greenway Plaza, Suite 600, Suite 600, Houston, TX 77046 and Douglas W. Smith and Vincenzo Franco, Van Ness Feldman, P.C., 1050 Thomas Jefferson St., NW., Seventh Floor, Washington, DC 20007-3877.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov. Upon reaching the Home page, select “Electricity Regulation,” and then “Pending Proceedings” from the options menus.

Issued in Washington, DC, on November 15, 2005.
Anthony J. Como,
Director, Permitting and Siting , Office of Electricity Delivery and Energy Reliability.

[FR Doc. 05-23003 Filed 11-18-05; 8:45 am]

BILLING CODE 6450-01-P